DEPARTMENT OF DEFENSE

Department of the Army; Corps of Engineers

Intent To Prepare a Draft Environmental Impact Statement/Environmental Impact Report for the Santa Ana River Interceptor Protection/Relocation Project, Reach 9, Orange County, Riverside County and San Bernardino County, CA

AGENCY: Department of the Army, U.S. Army Corps of Engineers, DoD.

ACTION: Notice of intent.

SUMMARY: The project area, Reach 9 of the Santa Ana River, includes the approximate 12 kilometer (7.4 mile) section of the River immediately downstream of Prado Dam ending at Weir Canyon Road in the City of Anaheim. The portion of the Santa Ana River Interceptor (SARI) sewage line that extends through this area is in potential jeopardy due to planned increases in flows from the Prado Dam. This segment will either need to be relocated out of the floodplain, or protected in place. Four general alternatives are being considered: (1) Relocate the pipeline to the North; (2) Relocate the pipeline to the South; (3) Protect the pipeline in place; or (4) No action. A combination of alternatives may also be considered.

ADDRESSES: Commander, U.S. Army Corps of Engineers, Los Angeles District, Ecosystem Planning Section, CESPL-PD-RN, P.O. Box 532711, Los Angeles, CA 90053-2325.

DATES: A public scoping meeting is scheduled for March 10, 2004 at 7 p.m. at the Yorba Linda Community Center, 4501 Casa Loma Ave., Yorba Linda, CA 92886.

FOR FURTHER INFORMATION CONTACT: John J. Killeen, Environmental Studies Manager, (213) 452-3861.

SUPPLEMENTARY INFORMATION: 1. Authorization. The study of potential flood control measures for the Santa Ana River Interceptor Relocation/Protection Project is a part of the Santa Ana River Mainstream Project which was initially authorized by Pub. L. 738, 74th Congress, June 22, 1936. Authorization of the recommended plan for the Santa Ana River Mainstream Project was the Water Resources Development Act of 1986.

2. Background. The Santa Ana River flows for more than 60 miles through San Bernardino and Riverside Counties which are undergoing extreme urbanization and continues into already heavily urbanized Orange County. The Prado Dam which was designed to protect Orange County does not currently provide sufficient flood protection because of the continual development in the upstream watershed, reduction of the basin storage capacity due to sediment deposition, and other factors. Ongoing improvements and modifications by the U.S. Army Corps of Engineers (Corps) to Prado Dam will result in a potential three-fold increase in outflow. The SARI project was constructed as a joint effort of the Orange County Sanitation District and the Santa Ana Watershed Project Authority (SAWPA) in 1973. The Reach 9 segment of the SARI Line (the subject portion of the Santa Ana River), originally deeply buried, is now threatened with structural damage because of exposure of the pipe caused by erosion. The ongoing erosion will be greatly exacerbated by the Prado Dam improvement Project. If the pipe is damaged, the untreated wastewater would be introduced into the Santa Ana River and ultimately onto the beaches and into the coastal waters. Downstream Treatment Plants No. 1 and No. 2 could possibly be damaged by sand and debris that would likely be introduced into the broken pipe.

3. Proposed Action. Protect in place or relocate the SARI line outside of the floodplain prior to completion of the Corps' Santa Ana River (Prado Dam) flood control project to prevent damages that would likely occur as a result of scouring by the water releases from Prado Dam.

4. Alternatives.

a. Alternative 1, No Action/No Project: without the project, the SARI Line (the subject portion in Reach 9 of the Santa Ana River), originally deeply buried, will be threatened with structural damage because of exposure of the pipe caused by erosion.

b. Alternative 2, Protect in Place: Keep the existing SARI Line in use. Protect the existing line by the addition of grade stabilizers to control bed erosion and additional improvements to protect existing manholes. Project will include additional features as required to mitigate habitat and other environmental impacts. Maintenance would be via access roads in the flood plain which were constructed in 2001. The access roads will also need occasional maintenance.

c. Alternative 3, Relocation North of the River: Replace the existing SARI Line between Weir Canyon Road and the Orange/Riverside County Lines with a pipeline on the north side of the River outside of the floodplain. Maintenance of the new portion of the SARI Line will be by way of the bike path beside La Palma Avenue and Yorba Linda and new Anaheim streets. The segment of pipeline within Riverside County would be protected in place.

d. Alternative 4, Relocation to Edge of South Floodplain-One Yorba Linda Crossing: Replace the existing SARI Line between the control gate structure east of the SAVI Ranch Development and the Riverside County Line with a new pipeline on the south side of the River. Build a new system to connect Yorba Linda flows to the SARI Line via a pipeline in the bike path beside La Palma Avenue and a siphon under the River near SAVI Ranch to the new SARI Line near the existing control gate structure. Maintenance of the relocated portion of the SARI Line will be by way of the bike path beside Highway 91 and Anaheim Streets. The segment of pipeline within Riverside County would be protected in place.

5. Scoping Process.

a. Potential impacts associated with the proposed action will be evaluated. Resource categories that will be analyzed are: land use, physical environment, geology, biological resources, agricultural resources, air quality, ground water, recreational usage, aesthetics, cultural resources, transportation/communications, hazardous waste, socioeconomics and safety.

b. Participation of affected Federal, State and local resource agencies, native American groups and concerned interest groups/individuals is encouraged in the scoping process. Time and location of the Public Scoping meeting will also be announced by means of a letter, public announcements and news releases. Public participation will be especially important in defining the scope of analysis in the Environmental Impact Statement/Environment Impact Report (EIS/EIR), identifying significant environmental issues and impact analysis in the EIS/EIR and providing useful information such as published and unpublished data, personal knowledge of relevant issues and recommending mitigative measures associated with the proposed action. Those interested in providing information or data relevant to the environmental or social impacts that should be included or considered in the environmental analysis can furnish this information by writing to the points of contact indicated above or by attending the public scoping meeting. A mailing list will also be established so pertinent data may be distributed to interested parties.

Luz D. Ortiz,
Army Federal Register Liaison Officer.

[FR Doc. 04-4382 Filed 2-26-04; 8:45 am]

BILLING CODE 3710-KF-M